DEPARTMENT OF HOMELAND SECURITY

Federal Emergency Management Agency

[Docket ID FEMA-2024-0002; Internal Agency Docket No. FEMA-B-2424]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Colorado:
Douglas | Town of Castle Rock (23-08-0509P). | The Honorable Jason Gray, Mayor, Town of Castle Rock, 100 North Wilcox Street, Castle Rock, CO 80104. | Water Department, 175 Kellogg Court, Castle Rock, CO 80109. | https://msc.fema.gov/portal/advanceSearch. | Jun. 21, 2024 | 080050
Jefferson | Unincorporated areas of Jefferson County (23-08-0204P). | Lesley Dahlkemper, Chair, Jefferson County Board of Commissioners, 100 Jefferson County Parkway, Suite 5550, Golden, CO 80419. | Jefferson County Planning and Zoning Division, 100 Jefferson County Parkway, Suite 3550, Golden, CO 80419. | https://msc.fema.gov/portal/advanceSearch. | Jul. 5, 2024 | 080087
Larimer | Town of Timnath (23-08-0412P). | The Honorable Mark Soukup, Mayor, Town of Timnath, 4750 Signal Tree Drive, Timnath, CO 80547. | Town Hall, 4100 Main Street, Timnath, CO 80547. | https://msc.fema.gov/portal/advanceSearch. | Apr. 25, 2024 | 080005
Larimer | Unincorporated areas of Larimer County (23-08-0412P). | Jody Shadduck-McNally, Chair, Larimer County Board of Commissioners, 200 West Oak Street, Fort Collins, CO 80521. | Larimer County Courthouse, 200 West Oak Street, Suite 3000, Fort Collins, CO 80521. | https://msc.fema.gov/portal/advanceSearch. | Apr. 25, 2024 | 080101
Summit | Town of Silverthorne (22-08-0673P). | The Honorable Ann-Marie Sandquist, Mayor, Town of Silverthorne, P.O. Box 1309, Silverthorne, CO 80498. | Town Hall, 601 Center Circle, Silverthorne, CO 80498. | https://msc.fema.gov/portal/advanceSearch. | May 13, 2024 | 080201
Summit | Unincorporated areas of Summit County (22-08-0673P). | Tamara Pogue, Chair, Summit County Board of Commissioners, P.O. Box 68, Breckenridge, CO 80424. | Summit County Commons, 37 Peak One Drive, Frisco, CO 80443. | https://msc.fema.gov/portal/advanceSearch. | May 13, 2024 | 080290
Weld | Town of Firestone (23-08-0123P). | The Honorable Drew Peterson, Mayor, Town of Firestone, 9950 Park Avenue, Firestone, CO 80504. | Town Hall, 9950 Park Avenue, Firestone, CO 80504. | https://msc.fema.gov/portal/advanceSearch. | May 20, 2024 | 080241
Weld | Town of Frederick (23-08-0123P). | The Honorable Tracie Crites, Mayor, Town of Frederick, P.O. Box 435, Frederick, CO 80530. | Town Hall, 323 5th Street, Frederick, CO 80530. | https://msc.fema.gov/portal/advanceSearch. | May 20, 2024 | 080244
Weld | Unincorporated areas of Weld County (23-08-0123P). | Mike Freeman, Chair, Weld County Board of Commissioners, P.O. Box 758, Greeley, CO 80631. | Weld County Commissioner's Office, 1150 O Street, Greeley, CO 80631. | https://msc.fema.gov/portal/advanceSearch. | May 20, 2024 | 080266
Florida:
Manatee | Unincorporated areas of Manatee County (23-04-5657P). | Charlie Bishop, Manatee County Administrator, 1112 Manatee Avenue West, Bradenton, FL 34205. | Manatee County Administration Building, 1112 Manatee Avenue West, Bradenton, FL 34205. | https://msc.fema.gov/portal/advanceSearch. | Jun. 10, 2024 | 120153
Monroe | Village of Islamorada (24-04-1016P). | The Honorable Joseph “Buddy” Pinder III Mayor, Village of Islamorada, 86800 Overseas Highway, Islamorada, FL 33036. | Building Department, 86800 Overseas Highway, Islamorada, FL 33036. | https://msc.fema.gov/portal/advanceSearch. | Jul. 5, 2024 | 120424
Orange | City of Orlando (23-04-5329P). | The Honorable Buddy Dyer, Mayor, City of Orlando, 400 South Orange Avenue, Orlando, FL 32801. | City Hall, 400 South Orange Avenue, Orlando, FL 32801. | https://msc.fema.gov/portal/advanceSearch. | Jun. 24, 2024 | 120186
Orange | Unincorporated areas of Orange County (23-04-5298P). | The Honorable Jerry L. Demings, Mayor, Orange County, 201 South Rosalind Avenue, 5th Floor, Orlando, FL 32801. | Orange County Public Works Department, Stormwater Management Division, 4200 South John Young Parkway, Orlando, FL 32839. | https://msc.fema.gov/portal/advanceSearch. | Jul. 8, 2024 | 120179
Orange | Unincorporated areas of Orange County (23-04-5329P). | The Honorable Jerry L. Demings, Mayor, Orange County, 201 South Rosalind Avenue, 5th Floor, Orlando, FL 32801. | Orange County Public Works Department, Stormwater Management Division, 4200 South John Young Parkway, Orlando, FL 32839. | https://msc.fema.gov/portal/advanceSearch. | Jun. 24, 2024 | 120179
Osceola | Unincorporated areas of Osceola County (23-04-0522P). | Donald Fisher, Osceola County Manager, 1 Courthouse Square, Suite 4700, Kissimmee, FL 34741. | Osceola County Public Works Department, 1 Courthouse Square, Suite 3100, Kissimmee, FL 34741. | https://msc.fema.gov/portal/advanceSearch. | Jun. 7, 2024 | 120189
Palm Beach | Unincorporated areas of Palm Beach County (23-04-4841P). | Verdenia C. Baker, Palm Beach County Administrator, 301 North Olive Avenue, West Palm Beach, FL 33401. | Palm Beach County Building Division, 2300 North Jog Road, Vista Center, 1st Floor, 1E-17, West Palm Beach, FL 33411. | https://msc.fema.gov/portal/advanceSearch. | May 13, 2024 | 120192
Seminole | City of Sanford (23-04-6286P). | The Honorable Art Woodruff, Mayor, City of Sanford, 300 North Park Avenue, Sanford, FL 32771. | City Hall, 300 North Park Avenue, Sanford, FL 32771. | https://msc.fema.gov/portal/advanceSearch. | Jun. 27, 2024 | 120294
Georgia: Fulton | City of Hapeville (23-04-3666P). | The Honorable Alan Hallman, Mayor, City of Hapeville, 3468 North Fulton Avenue, Hapeville, GA 30354. | City Hall, 3474 North Fulton Avenue, Hapeville, GA 30354. | https://msc.fema.gov/portal/advanceSearch. | May 3, 2024 | 130502
Maine:
Cumberland | Town of Harpswell (24-01-0141P). | Kevin E. Johnson, Chair, Town of Harpswell Board of Selectmen, P.O. Box 39, Harpswell, ME 04079. | Code Department, 263 Mountain Road, Harpswell, ME 04079. | https://msc.fema.gov/portal/advanceSearch. | Jun. 21, 2024 | 230169
Cumberland | City of Portland (24-01-0140P). | The Honorable Mark Dion, Mayor, City of Portland, 389 Congress Street, Portland, ME 04101. | Permitting and Inspections Department, 389 Congress Street, Portland, ME 04101. | https://msc.fema.gov/portal/advanceSearch. | Jun. 21, 2024 | 230051
Montana: Granite | Unincorporated areas of Granite County (23-08-0605P). | Blanche McLure, Chair, Granite County Board of Commissioners, P.O. Box 925, Philipsburg, MT 59858. | Granite County Planning Department, 220 North Sansome Street, Philipsburg, MT 59858. | https://msc.fema.gov/portal/advanceSearch. | Jun. 7, 2024 | 300141
North Carolina:
Durham | Unincorporated areas of Durham County (23-04-1744P). | Nida Allam, Chair, Durham County Board of Commissioners, 200 East Main Street, Durham, NC 27701. | Durham County Government Office, 101 City Hall Plaza, Durham, NC 27701. | https://msc.fema.gov/portal/advanceSearch. | Jun. 4, 2024 | 370085
Forsyth | City of Winston-Salem (22-04-5169P) | The Honorable Allen Joines, Mayor, City of Winston-Salem, 100 East First Street, Winston-Salem, NC 27101. | Planning and Development Department, 100 East 1st Street, Winston-Salem, NC 27101. | https://msc.fema.gov/portal/advanceSearch. | Apr. 22, 2024 | 375360
Madison | Unincorporated areas of Madison County (23-04-3517X). | The Honorable Matthew Wechtel, Chair, Madison County Board of Commissioners, P.O. Box 573, Marshall, NC 28753. | Madison County Development Services Department, 5707 U.S. Highway 25/70, Marshall, NC 28753. | https://msc.fema.gov/portal/advanceSearch. | Mar. 18, 2024 | 370152
Stanly | City of Albemarle (23-04-5871P). | The Honorable G.R. Michael, Mayor, City of Albemarle, 144 North 2nd Street, Albemarle, NC 28001. | Engineering Department, 144 North 2nd Street, 2nd Floor, Albemarle, NC 28001. | https://msc.fema.gov/portal/advanceSearch. | May 29, 2024 | 370223
Wake | Town of Wake Forest (23-04-3741P). | The Honorable Vivian A. Jones, Mayor, Town of Wake Forest, 301 South Brooks Street, Wake Forest, NC 27587. | Planning Department, 301 South Brooks Street, Wake Forest, NC 27587. | https://msc.fema.gov/portal/advanceSearch. | Jun. 5, 2024 | 370244
Wake | Unincorporated areas of Wake County (23-04-3741P). | Shinica Thomas, Chair, Wake County, Board of Commissioners, P.O. Box 550, Raleigh, NC 27602. | Wake County, Planning Department, 337 South Salisbury Street, Raleigh, NC 27601. | https://msc.fema.gov/portal/advanceSearch. | Jun. 5, 2024 | 370368
Watauga | Unincorporated areas of Watauga County (22-04-4623P). | Larry Turnbow, Chair, Watauga County Board of Commissioners, 814 West King Street, Suite 205, Boone, NC 28607. | Watauga County Planning and Inspections Department, 126 Poplar Grove Connector, Suite 201, Boone, NC 28607. | https://msc.fema.gov/portal/advanceSearch. | May 23, 2024 | 370251
Rhode Island: Washington | Town of Westerly (24-01-0093P). | Shawn Lacey, Manager, Town of Westerly, 45 Broad Street, 2nd Floor, Westerly, RI 02891. | Building Department, 68 White Rock Road, Westerly, RI 02891. | https://msc.fema.gov/portal/advanceSearch. | Jul. 5, 2024 | 445410
Tennessee: Davidson | Metropolitan Government of Nashville-Davidson County (23-04-4923P). | The Honorable Freddie O'Connell, Mayor, Metropolitan Government of Nashville-Davidson County, 1 Public Square, Suite 100, Nashville, TN 37201. | Metro Water Services Department, 1600 2nd Avenue North, Nashville, TN 37208. | https://msc.fema.gov/portal/advanceSearch. | Jun. 3, 2024 | 470040
Texas:
Bexar | City of San Antonio (22-06-2403P). | The Honorable Ron Nirenberg, Mayor, City of San Antonio, P.O. Box 839966, San Antonio, TX 78283. | Transportation and Capital Improvements Department, Storm Water Division, 1901 South Alamo Street, 2nd Floor, San Antonio, TX 78204. | https://msc.fema.gov/portal/advanceSearch. | May 6, 2024 | 480045
Bexar | City of Selma (23-06-0582P). | The Honorable Tom Daly, Mayor, City of Selma, 9375 Corporate Drive, Selma, TX 78154. | Public Works Department, 9375 Corporate Drive, Selma, TX 78154. | https://msc.fema.gov/portal/advanceSearch. | May 6, 2024 | 480046
Bexar | City of Universal City (23-06-0582P). | The Honorable John Williams, Mayor, City of Universal City, 2150 Universal City Boulevard, Universal City, TX 78148. | Development Services Department, 2150 Universal City Boulevard, Universal City, TX 78148. | https://msc.fema.gov/portal/advanceSearch. | May 6, 2024 | 480049
Dallas | City of Irving (23-06-1892P). | The Honorable Rick Stopfer, Mayor, City of Irving, 825 West Irving Boulevard, Irving, TX 75060. | Capital Improvement Program, 825 West Irving Boulevard, Irving, TX 75060. | https://msc.fema.gov/portal/advanceSearch. | May 28, 2024 | 480180
Ellis | City of Ennis (23-06-1837P). | The Honorable Angeline Juenemann, Mayor, City of Ennis, 107 North Sherman Street, Ennis, TX 75119. | City Hall, 107 North Sherman Street, Ennis, TX 75119. | https://msc.fema.gov/portal/advanceSearch. | Jun. 3, 2024 | 480207
Galveston | City of League City (23-06-0963P). | John Baumgartner, City of League City Manager, 300 West Walker Street, League City, TX 77573. | City Hall, 300 West Walker Street, League City, TX 77573. | https://msc.fema.gov/portal/advanceSearch. | Jun. 28, 2024 | 485488
Galveston | Unincorporated areas of Galveston County (23-06-0963P). | The Honorable Mark Henry, Galveston County Judge, 722 Moody Avenue, Galveston, TX 77550. | Galveston County Courthouse, 722 Moody Avenue, Galveston, TX 77550. | https://msc.fema.gov/portal/advanceSearch. | Jun. 28, 2024 | 485470
Grayson | City of Howe (23-06-2585P). | The Honorable Karla McDonald, Mayor, City of Howe, 116 East Haning Street, Howe, TX 75459. | City Hall, 116 East Haning Street, Howe, TX 75459. | https://msc.fema.gov/portal/advanceSearch. | Jun. 26, 2024 | 480833
Tarrant | City of Fort Worth (23-06-1892P). | The Honorable Mattie Parker, Mayor, City of Fort Worth, 200 Texas Street, Fort Worth, TX 76102. | Department of Transportation and Public Works, Engineering Vault and Map Repository, Fort Worth, TX 76102. | https://msc.fema.gov/portal/advanceSearch. | May 28, 2024 | 480596
Webb | City of Laredo (23-06-2007P). | The Honorable Victor D. Treviño, Mayor, City of Laredo, 1110 Houston Street, Laredo, TX 78040. | Building Development Services Department, 1413 Houston Street, Laredo, TX 78040. | https://msc.fema.gov/portal/advanceSearch. | Jun. 20, 2024 | 480651
Williamson | City of Cedar Park (23-06-1459P). | The Honorable Jim Penniman-Morin, Mayor, City of Cedar Park, 450 Cypress Creek Road, Building 4, Cedar Park, TX 78613. | City Hall, 450 Cypress Creek Road, Building 1, Cedar Park, TX 78613. | https://msc.fema.gov/portal/advanceSearch. | Jun. 6, 2024 | 481282
Williamson | Unincorporated areas of Williamson County (23-06-1459P). | The Honorable Bill Gravell, Jr., Williamson County Judge, 710 South Main Street, Suite 101, Georgetown, TX 78626. | Williamson County Engineering Department, 3151 Southeast Inner Loop, Georgetown, TX 78626. | https://msc.fema.gov/portal/advanceSearch. | Jun. 6, 2024 | 481079
Virginia: Buchanan | Unincorporated areas of Buchanan County (23-03-1041P). | Robert Craig Horn, Buchanan County Administrator, P.O. Box 950, Grundy, VA 24614. | Buchanan County Government Center, 4447 Slate Creek Road, Grundy, VA 24614. | https://msc.fema.gov/portal/advanceSearch. | Jun. 21, 2024 | 510024

[FR Doc. 2024-07658 Filed 4-11-24; 8:45 am]

BILLING CODE 9110-12-P